ENVIRONMENTAL PROTECTION AGENCY

[EPA-HQ-OPP-2009-1017; FRL-9930-51]

Product Cancellation Order for Certain Pesticide Registrations; Correction

AGENCY: Environmental Protection Agency (EPA).

ACTION: Notice; correction.

SUMMARY: EPA issued a notice in the Federal Register of March 12, 2015, and June 3, 2015, concerning receipt of requests to voluntarily cancel certain pesticide registrations and its follow-up product cancellation order, respectively. In both notices, EPA inadvertently listed the pesticide product Biobor JF (EPA Reg. No. 065217-00001). The registrant did not request voluntary cancellation for this product. Therefore, EPA is not cancelling the pesticide product Biobor JF (EPA Reg. No. 065217-00001). This document removes the cancellation order for Biobor JF (EPA Reg. No. 065217-00001) listed in both the March 12, 2015, and June 3, 2015, Federal Register notices.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

The Agency included in the Federal Register notices of March 12, 2015 (80 FR 12996) (FRL-9923-27) and June 3, 2015 (80 FR 31596) (FRL-9926-88) a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued a notice in the Federal Register of March 12, 2015, (80 FR 12996) (FRL-9923-27) and June 3, 2015 (80 FR 31596) (FRL-9926-88), concerning receipt of requests to voluntarily cancel certain pesticide registrations and its follow-up product cancellation order, respectively. In both notices, EPA inadvertently listed the pesticide product Biobor JF (EPA Reg. No. 065217-00001). The registrant did not request voluntary cancellation for this product and this document corrects the inclusion of this product registration for voluntary cancellation. Therefore, EPA is not cancelling the pesticide product Biobor JF (EPA Reg. No. 065217-00001). This document removes the cancellation order for Biobor JF (EPA Reg. No. 065217-00001) listed in both the March 12, 2015, and June 3, 2015, Federal Register notices.

Authority: 7 U.S.C. 136 et. seq.

Dated: July 17, 2015.
Richard P. Keigwin, Jr.,
Director, Pesticide Re-Evaluation Division, Office of Pesticide Programs.

[FR Doc. 2015-18740 Filed 7-29-15; 8:45 am]

BILLING CODE 6560-50-P